DEPARTMENT OF THE INTERIOR

National Park Service

[N6454; NPS-WASO-NAGPRA-NPS0040874; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH), has completed an inventory of human remains and has determined that there is a cultural affiliation between the human remains and Indian Tribes or Native Hawaiian organizations in this notice.

DATES: Repatriation of the human remains in this notice may occur on or after September 22, 2025.

ADDRESSES: Send written requests for repatriation of the human remains in this notice to Megan Fry, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing at least one individual from Monkey Jungle Hammock (8DA2100) are present at the Florida Museum of Natural History. There are no associated funerary objects from the site. The site is a dry sinkhole. Bone and fossils were accumulated by a combination of deadfall trap and mammalian and avian predators. Lewis Ober and William Weaver of Miami Dade College noticed fossil bones weathering out of sediment that had been excavated out of a sinkhole to form an alligator habitat at the Monkey Jungle zoological park. No in situ sediment was available for excavation, therefore there is no contextual information available for the context of the material from the site. The Ancestor was collected between 1969 and 1970.

The collection came to FLMNH by way of Frank Dumond, the general manager of Monkey Jungle who granted access to property and site collected by Lewis D. Ober, William G. Weaver, and Miami-Dade Community College students from 1969-1989 (Morgan and Seymour, 1997). Metro-Dade Archaeology crew also collected specimens in 1980. Vertebrate fossils were then deposited with FLMNH. In reviewing the 1969 accession, FLMNH found a single human mandible among the collection.

Cultural Affiliation

Based on the information available and the results of consultation, cultural affiliation is reasonably identified by the geographical location or acquisition history of the human remains described in this notice.

Determinations

The FLMNH has determined that:

• The human remains described in this notice represent the physical remains of one individual of Native American ancestry.

• There is a connection between the human remains described in this notice and the Miccosukee Tribe of Indians; Seminole Tribe of Florida; and The Seminole Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 22, 2025. If competing requests for repatriation are received, the FLMNH must determine the most appropriate requestor prior to repatriation. Requests for joint repatriation of the human remains are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: August 13, 2025.
Melanie O'Brien,
Manager, National NAGPRA Program.

[FR Doc. 2025-16110 Filed 8-21-25; 8:45 am]

BILLING CODE 4312-52-P